DEPARTMENT OF COMMERCE

International Trade Administration

Antidumping or Countervailing Duty Order, Finding, or Suspended Investigation; Opportunity to Request Administrative Review

AGENCY: Import Administration, International Trade Administration, Department of Commerce.

ACTION: Notice of Opportunity to Request Administrative Review of Antidumping or Countervailing Duty Order, Finding, or Suspended Investigation.

Background

Each year during the anniversary month of the publication of an antidumping or countervailing duty order, finding, or suspension of investigation, an interested party, as defined in section 771(9) of the Tariff Act of 1930, as amended, may request, in accordance with section 351.213 (2002) of the Department of Commerce (the Department) Regulations, that the Department conduct an administrative review of that antidumping or countervailing duty order, finding, or suspended investigation.

Opportunity to Request a Review: Not later than the last day of January 2003, interested parties may request administrative review of the following orders, findings, or suspended investigations, with anniversary dates in January for the following periods:

| Period
Antidumping Duty Proceedings
Brazil:
Brass Sheet and Strip, A-351-603 | 1/1/02-12/31/02
Stainless Steel Wire Rod, A-351-819 | 1/1/02-12/31/02
Canada: Brass Sheet and Strip, A-122-601 | 1/1/02-12/31/02
France:
Anhydrous Sodium Metasilicate (ASM), A-427-098 | 1/1/02-12/31/02
Stainless Steel Wire Rods, A-427-811 | 1/1/02-12/31/02
Taiwan: Top-of-the-Stove Stainless Steel Cooking Ware, A-583-603 | 1/1/02-12/31/02
The People's Republic of China:
Folding Gift Boxes, A-570-866 | 8/6/01-12/31/02
Potassium Permanganate, A-570-001 | 1/1/02-12/31/02
The Republic of Korea: Top-of-the Stove Stainless Steel Cooking Ware, A-580-601 | 1/1/02-12/31/02
Countervailing Duty Proceedings
Brazil: Brass Sheet and Strip, C-351-604 | 1/1/02-12/31/02
Taiwan: Top-of-the-Stove Stainless Steel Cooking Ware, C-583-604 | 1/1/02-12/31/02
The Republic of Korea: Top-of-the-Stove Stainless Steel Cooking Ware, C-580-602 | 1/1/02-12/31/02

Suspension Agreements

None.

In accordance with section 351.213(b) of the regulations, an interested party as defined by section 771(9) of the Act may request in writing that the Secretary conduct an administrative review. The Department changed its requirements for requesting reviews for countervailing duty orders. For both antidumping and countervailing duty reviews, the interested party must specify the individual producers or exporters covered by an antidumping finding or an antidumping or countervailing duty order or suspension agreement for which it is requesting a review, and the requesting party must state why it desires the Secretary to review those particular producers or exporters. If the interested party intends for the Secretary to review sales of merchandise by an exporter (or a producer if that producer also exports merchandise from other suppliers) which were produced in more than one country of origin and each country of origin is subject to a separate order, then the interested party must state specifically, on an order-by-order basis, which exporter(s) the request is intended to cover.

Six copies of the request should be submitted to the Assistant Secretary for Import Administration, International Trade Administration, Room 1870, U.S. Department of Commerce, 14th Street & Constitution Avenue, NW., Washington, DC 20230. The Department also asks parties to serve a copy of their requests to the Office of Antidumping/ Countervailing Enforcement, Attention: Sheila Forbes, in room 3065 of the main Commerce Building. Further, in accordance with section 351.303(f)(l)(i) of the regulations, a copy of each request must be served on every party on the Department's service list.

The Department will publish in the Federal Register a notice of “Initiation of Administrative Review of Antidumping or Countervailing Duty Order, Finding, or Suspended Investigation” for requests received by the last day of January 2003. If the Department does not receive, by the last day of January 2003, a request for review of entries covered by an order, finding, or suspended investigation listed in this notice and for the period identified above, the Department will instruct the Customs Service to assess antidumping or countervailing duties on those entries at a rate equal to the cash deposit of (or bond for) estimated antidumping or countervailing duties required on those entries at the time of entry, or withdrawal from warehouse, for consumption and to continue to collect the cash deposit previously ordered.

This notice is not required by statute but is published as a service to the international trading community.

Dated: December 23, 2002.
Holly A. Kuga,
Senior Office Director, Group II, Office 4, Import Administration.

[FR Doc. 02-33133 Filed 12-31-02; 8:45 am]

BILLING CODE 3510-DS-P